CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning the locating of respondents for the Longitudinal Evaluation of AmeriCorps. The Longitudinal Evaluation of AmeriCorps is a long term study based on the hypothesis that participation in national service may lead to measurable outcomes for AmeriCorps participants. The study uses a quasi-experimental design to assess program impacts on program participants.

Copies of the information collection requests can be obtained by contacting the office listed in the address section of this notice.

DATES: Written comments must be submitted to the individual and office listed in the ADDRESSES section by December 15, 2009.

ADDRESSES: You may submit comments, identified by the title of the information collection activity, by any of the following methods:

(1) By mail sent to: Corporation for National and Community Service, Attention: Lillian Dote, Program Officer, Office of Research and Policy Development, Curtis Center, 601 Walnut Street, Suite 876E, Philadelphia, PA 19106.

(2) By hand delivery or by courier to the street address given in paragraph (1) above, between 9 a.m. and 4 p.m. Monday through Friday, except Federal holidays.

(3) By fax to: (215) 597-4933, Attention: Lillian Dote, Program Officer, Office of Research and Policy Development.

(4) Electronically through the Corporation's e-mail address system: ldote@cns.gov.

FOR FURTHER INFORMATION CONTACT: Lillian Dote at (215) 597-2861 or by e-mail at ldote@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are expected to respond, including the use of appropriate automated, electronic, mechanical, or other technological collection techniques or other forms of information technology (e.g., permitting electronic submissions of responses).

Background

AmeriCorps is a national program, administered by the Corporation that provides grants to nonprofit organizations and government entities to support members and volunteers serving in national and local community service programs. The proposed locating effort will be completed by longitudinal sample members only, including former AmeriCorps members and their counterparts in the comparison group. The study includes participants from AmeriCorps State and National and the AmeriCorps National Civilian Community Corps (NCCC).

Current Action

The Corporation seeks renewal of its earlier application.

Type of Review: Renewal.

Agency: Corporation for National and Community Service.

Title: Longitudinal Evaluation of AmeriCorps: Respondent Tracking.

OMB Number: 3045-0070.

Agency Number: None.

Affected Public: Participants in the Longitudinal Evaluation of AmeriCorps.

Total Respondents: Treatment Group: 1,781 former AmeriCorps members.

Comparison Group: 1,539 individuals.

Total: 3,320 respondents.

Frequency: Periodically.

Average Time Per Response: 3 minutes.

Estimated Total Burden Hours: 166 hours.

Total Burden Cost (capital/startup): None.

Total Burden Cost (operating/maintenance): None.

Comments submitted in response to this notice will be summarized and/or included in the request for Office of Management and Budget approval of the information collection request; they will also become a matter of public record.

Dated: October 9, 2009.
Nathan Dietz,
Research Associate/Statistician, Office of Research and Policy Development.

[FR Doc. E9-24864 Filed 10-15-09; 8:45 am]

BILLING CODE 6050-$$-P